ENVIRONMENTAL PROTECTION AGENCY

40 CFR Parts 52, 62, and 70

[EPA-R07-OAR-2017-0470; FRL-9967-50-Region 7]

State of Iowa; Approval and Promulgation of the State Implementation Plan, the 111(d) Plan, and the Operating Permits Program

AGENCY: Environmental Protection Agency (EPA).

ACTION: Proposed rule.

SUMMARY: The Environmental Protection Agency (EPA) is proposing to approve revisions to the Iowa the State Implementation Plan (SIP), the 111(d) plan, and the Operating Permits Program. These revisions update and clarify rules and make minor revisions and corrections. Approval of these revisions will ensure consistency between the state and Federally-approved rules, and ensure Federal enforceability of the state's revised air program rules. In the “Rules and Regulations” section of this Federal Register, we are approving the state's SIP revisions as a direct final rule without a prior proposed rule. EPA is taking direct final action because we view this as a noncontroversial action and anticipate no relevant adverse comment. We have explained our reasons for these actions in the Technical Support Document that is included with this docket. If we receive no adverse comment, we will not take further action on this proposed rule.

DATES: Comments must be received by October 16, 2017.

ADDRESSES: Submit your comments, identified by Docket ID No. EPA-R07-OAR-2017-0470, to https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

FOR FURTHER INFORMATION CONTACT: Heather Hamilton, Environmental Protection Agency, Air Planning and Development Branch, 11201 Renner Boulevard, Lenexa, Kansas 66219 at 913-551-7039, or by email at hamilton.heather@epa.gov.

SUPPLEMENTARY INFORMATION: This document proposes to take action on the Iowa the SIP, the 111(d) plan, and the Operating Permits Program. We have published a direct final rule approving these revisions in the “Rules and Regulations” section of this Federal Register, because we view this as a noncontroversial action and anticipate no relevant adverse comment. We have explained our reasons for these actions in the Technical Support Document that is included with this docket. If we receive no adverse comment, we will not take further action on this proposed rule. If we receive adverse comment, we will withdraw the direct final rule and it will not take effect. We would address all public comments in any subsequent final rule based on this proposed rule. We do not intend to institute a second comment period on this action. Any parties interested in commenting must do so at this time. For further information, please see the information provided in the ADDRESSES section of this document.

List of Subjects in 40 CFR Part 52

Environmental protection, Air pollution control, Incorporation by reference, Intergovernmental relations, Lead, Nitrogen dioxide, Ozone, Particulate matter, Reporting and recordkeeping requirements, Sulfur oxides, Volatile organic compounds.

List of Subjects in 40 CFR Part 62

Environmental protection, Air pollution control, Administrative practice and procedure, Reporting and recordkeeping requirements.

List of Subjects in 40 CFR Part 70

Environmental protection, Administrative practice and procedure, Air pollution control, Intergovernmental relations, Operating permits, Reporting and recordkeeping requirements.

Dated: August 24, 2017.
Edward H. Chu,
Acting Regional Administrator, Region 7.

[FR Doc. 2017-19348 Filed 9-14-17; 8:45 am]

BILLING CODE 6560-50-P